DEPARTMENT OF HEALTH AND HUMAN SERVICES

Health Resources and Services Administration

Maternal and Child Health Workforce Development Center Program

AGENCY: Health Resources and Services Administration (HRSA), Department of Health and Human Services.

ACTION: Announcing HRSA-initiated supplemental award.

SUMMARY: HRSA will provide up to $825,000 in fiscal year 2023 supplemental funds to the current Maternal and Child Health (MCH) Workforce Development Center Program recipient for the period of September 1, 2023, to August 31, 2024. This funding will support coordinating fellowships for faculty at minority serving institutions (MSI) in MCH education, research, and practice. Faculty fellowships will contribute to building capacity and developing a diverse MCH workforce that is able to build and sustain academic-practice partnerships and support communities that are historically underserved.

FOR FURTHER INFORMATION CONTACT: Michelle Tissue, Division of MCH Workforce Development, Maternal and Child Health Bureau, Health Resources and Services Administration, at MTissue@hrsa.gov and 301-443-6853.

SUPPLEMENTARY INFORMATION:

Intended Recipient of the Award: UNC-Chapel Hill.

Amount of Non-Competitive Award(s): One award for up to $825,000; supplemental funding for similar activities may be considered in future years, subject to the availability of funding for the activity and the satisfactory performance of the recipient.

Project Period: September 1, 2023, to August 31, 2024.

Assistance Listing (CFDA) Number: 93.110.

Award Instrument: Supplement for workforce and capacity building.

Authority: 42 U.S.C. 701(a)(2) (Title V, § 501(a)(2) of the Social Security Act).

Table 1—Recipients and Award Amounts
Grant No. | Award recipient name | City, state | Award amount
UE7MC26282 | University of North Carolina at Chapel Hill | NC | $825,000

Justification: The purpose of this supplemental funding is to develop MCH faculty capacity in MSIs by supporting faculty fellowships in MCH public health education, research, and practice. Faculty fellowships will contribute to developing a diverse MCH workforce that is able to build and sustain academic-practice partnerships, as outlined in HRSA-21-043, and support communities that are historically underserved.

• Up to $825,000 in supplemental funding will be awarded to the current MCH Workforce Development Center recipient for the period September 1, 2023, to August 31, 2024.

• Providing supplemental funding for the MCH Workforce Development Center Program will leverage the recipient's expertise in coordinating and supporting academic faculty fellowships and in developing partnerships between Title V MCH agencies and MCH faculty. Supplemental activities are within scope of the current project and will support the recipient to expand capacity building activities to include faculty at MSIs.

Carole Johnson,
Administrator.

[FR Doc. 2023-16375 Filed 8-1-23; 8:45 am]

BILLING CODE 4165-15-P